DEPARTMENT OF LABOR

Employment and Training Administration

[TA-W-54,435]

International Steel Group (ISG), Steelton, PA; Notice of Termination of Investigation

Pursuant to section 221 of the Trade Act of 1974, an investigation was initiated on March 8, 2004, in response to a petition filed by the United Steel Workers of America, Local Union 1688 on behalf of workers at International Steel Group (ISG), Steelton, Pennsylvania.

The petitioner has requested that the petition be withdrawn. Consequently, the investigation has been terminated.

Signed in Washington, DC, this 25th day of March, 2004.
Richard Church,
Certifying Officer, Division of Trade Adjustment Assistance.

[FR Doc. 04-7745 Filed 4-5-04; 8:45 am]

BILLING CODE 4510-30-P